DEPARTMENT OF COMMERCE

National Oceanic and Atmospheric Administration

50 CFR Part 679

[I.D. 052605B]

RIN 0648-AT04

Fisheries of the Exclusive Economic Zone Off Alaska; Groundfish Retention Standard

AGENCY: National Marine Fisheries Service (NMFS), National Oceanic and Atmospheric Administration (NOAA), Commerce.

ACTION: Proposed rule; notification of availability of FMP amendments; request for comments.

SUMMARY: The North Pacific Fishery Management Council (Council) has submitted Amendment 79 to the Fishery Management Plan for Groundfish of the Bering Sea and Aleutian Islands Management Area (FMP). If approved, Amendment 79 would add a management objective to the goals and objectives section of the FMP that would improve the retention of Bering Sea and Aleutian Islands (BSAI) groundfish species where practicable through the establishment of a minimum Groundfish Retention Standard (GRS). This action is intended to promote the management objectives of the Improved Retention/Improved Utilization (IRIU) program, the FMP, and the Magnuson-Stevens Fishery Conservation and Management Act (Magnuson-Stevens Act). This action is necessary to reduce discards and improve utilization in BSAI groundfish fisheries.

DATES: Written comments on Amendment 79 must be received on or before August 1, 2005.

ADDRESSES: Send comments to Sue Salveson, Assistant Regional Administrator, Sustainable Fisheries Division, Alaska Region, NMFS, Attn: Lori Durall. Comments may be submitted by:

• Mail to P.O. Box 21668, Juneau, AK 99802;

• Hand delivery to the Federal Building, 709 West 9th Street, Room 420A, Juneau, AK;

• FAX to 907-586-7557;

• E-mail to BSA79NOA-0648-AT04@noaa.gov and include in the subject line of the E-mail comment the document identifier: Amendment 79. E-mail comments, with or without attachments, are limited to 5 megabytes; or

• Webform at the Federal eRulemaking Portal: www.regualtions.gov. Follow the instructions at that site for submitting comments.

Copies of Amendment 79 and the Environmental Assessment/Regulatory Impact Review/Initial Regulatory Flexibility Analysis (EA/RIR/IRFA) prepared for this action may be obtained from the NMFS Alaska Region at the address above or from the Alaska Region website at http://www.fakr.noaa.gov or by calling the Sustainable Fisheries Division, Alaska Region, NMFS, at (907) 586-7228.

FOR FURTHER INFORMATION CONTACT: Jeff.Hartman@noaa.gov or Jason.Anderson@noaa.gov. Either may be contacted at (907) 586-7228.

SUPPLEMENTARY INFORMATION: The Magnuson-Stevens Act requires that each regional fishery management council submit any FMP or FMP amendment it prepares to NMFS for review and approval, disapproval, or partial approval. The Magnuson-Stevens Act also requires that NMFS, upon receiving an FMP amendment, immediately publish a notice in the Federal Register that the FMP or amendment is available for public review and comment. This requirement is satisfied by this notice of availability for Amendment 79.

This proposed action is one of several adopted by the Council to decrease regulatory and economic discards and increase catch utilization in the BSAI groundfish fisheries. Amendment 49 to the FMP was implemented on January 3, 1998 (62 FR 63880), establishing increased retention and utilization (IRIU) standards for pollock and Pacific cod beginning January 3, 1998, and for rock sole and yellowfin sole beginning January 1, 2003. In 2001, the Council determined that cost, market, and logistical constraints would prevent non-American Fisheries Act (AFA) trawl catcher/processors from being able to comply with IRIU requirements for flatfish. In June 2002, the Council developed a problem statement for the development of alternatives to address the pending effective date of IRIU regulations for flatfish. In October 2002, the Council adopted Amendment 75 to the FMP which would have delayed until June 1, 2004, the effective date of IRIU requirements for flatfish harvested in the BSAI. The Council's intent for this delay was to provide additional time for the development of bycatch reduction measures that could be more practically and effectively applied to the non-AFA trawl catcher/processor sector.

At the same time, the Council initiated the analysis of four new FMP amendments that were intended to augment or replace IRIU regulations for BSAI flatfish prior to the June 2004 effective date. Amendment “B” would have created flatfish discard limits for the flatfish fisheries; Amendment 76 would exempt fisheries with less than a 5 percent IRIU flatfish bycatch rate from IRIU flatfish regulations; Amendment 79 (the proposed action) would establish a minimum GRS; and Amendment 80 (as modified at the October 2004, Council meeting) would allocate certain target species and prohibited species catch limits to non-AFA trawl catcher/processors and create a regulatory structure under which these vessels may form one or more fishery cooperatives.

NMFS partially approved Amendment 75, by approving the removal of the January 1, 2003, effective date for the IRIU flatfish program from the FMP, and by disapproving the adjusted effective date of June 1, 2004. NMFS's decision on Amendment 75 had the effect of indefinitely delaying the IRIU flatfish program. With the indefinite delay of this program, Amendment 76 no longer had any practical application in the BSAI and Amendment “B” was rejected by the Council as infeasible following discussions between industry representatives and fishery managers. However, the Council continued to develop Amendments 79 and 80.

If approved, this proposed amendment would revise the goals and objectives section of the FMP to improve the retention of groundfish where practicable, through establishment of minimum groundfish retention standards. A proposed rule to implement a GRS program for non-AFA catcher/processors equal to or greater than 125 ft (38.1 m) length overall using trawl gear, including associated monitoring and recordkeeping and reporting requirements, will be published soon in the Federal Register for public comment.

Public comments are being solicited on proposed Amendment 79 through the end of the comment period stated (see DATES). All written comments received by the end of the comment period on the amendment will be considered in the approval/partial approval/disapproval decision. Written comments received after that date will not be considered in the approval/partial approval/disapproval decision on the amendment. To be considered, written comments must be received, not just postmarked or otherwise transmitted, by the close of business on the last day of the comment period.

Dated: May 27, 2005.
Alan D. Risenhoover,
Acting Director, Office of Sustainable Fisheries, National Marine Fisheries Service.

[FR Doc. 05-10990 Filed 6-1-05; 8:45 am]

BILLING CODE 3510-22-S